FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 010071-044.

Title: Cruise Lines International Association Agreement.

Parties: Acromas Shipping, Ltd./Saga Shipping; Aida Cruises; AMA Waterways; American Cruise Lines, Inc.; Aqua Expeditions Pte. Ltd.; Australian Pacific Touring Pty Ltd.; Avalon Waterways; Azamara Cruises; Carnival Cruise Lines; CDF Croisieres de France; Celebrity Cruises, Inc.; Celestyal Cruises; Costa Cruise Lines; Compagnie Du Ponant; Croisieurope; Cruise & Maritime Voyages; Crystal Cruises; Cunard Line; Disney Cruise Line; Emerald Waterways; Evergreen Tours; Fred.Olsen Cruise Lines Ltd.; Hapag-Lloyd Kreuzfahrten Gmbh; Hebridean Island Cruises; Holland America Line; Hurtigruten, Inc.; Island Cruises; Lindblad Expeditions Pty Ltd.; Luftner Cruises; Mekong Waterways; MSC Cruises; NCL Corporation; Oceania Cruises; P & O Cruises; P & O Cruises Australia; Paul Gauguin Cruises; Pearl Seas Cruises; Phoenix Reisen Gmbh; Princess Cruises; Pullmantur Cruises Ship Management Ltd.; Regent Seven Seas Cruises; Riviera Tours Ltd.; Royal Caribbean International; Scenic Tours UK Ltd.; Seabourn Cruise Line; SeaDream Yacht Club; Shearings Holidays Ltd.; Silversea Cruises, Ltd.; Star Cruises (HK) Limited; St. Helena Line/Andrew Weir Shipping Ltd.; Swan Hellenic; Tauck River Cruising; The River Cruise Line; Thomson Cruises; Travelmarvel; Tui Cruises Gmbh; Un-Cruises Adventures; Uniworld River Cruises, Inc.; Venice Simplon-Orient-Express Ltd./Belmond; Voyages of Discovery; Voyages to Antiquity (UK) Ltd.; and Windstar Cruises.

Filing Party: Andre Picciurro, Esq. Kaye, Rose & Partners, LLP; Emerald Plaza, 402 West Broadway, Suite 1300; San Diego, CA 92101-3542

Synopsis: The amendment would add language to clarify that the agreement can represent its members before federal and state judiciaries.

Agreement No.: 011223-052.

Title: Transpacific Stabilization Agreement.

Parties: American President Lines, Ltd. and APL Co. PTE Ltd.; (operating as a single carrier); Maersk Line A/S; CMA CGM, S.A.; COSCO Container Lines Company Ltd; Evergreen Line Joint Service Agreement; Hanjin Shipping Co., Ltd.; Hapag-Lloyd AG; Hyundai Merchant Marine Co., Ltd.; Kawasaki Kisen Kaisha Ltd.; MSC Mediterranean Shipping Company S.A.; Nippon Yusen Kaisha; Orient Overseas Container Line Limited; Yangming Marine Transport Corp.; and Zim Integrated Shipping Services, Ltd.

Filing Party: David F. Smith, Esq.; Cozen O'Conner; 1200 Nineteenth Street NW.; Washington, DC 20036.

Synopsis: The amendment deletes China Shipping Container Lines (Hong Kong) Company Limited and China Shipping Container Lines Company Limited as parties to the agreement.

Agreement No.: 012288-002.

Title: Hoegh/NYK Atlantic/Pacific Space Charter Agreement.

Parties: Hoegh Autoliners AS and Nippon Yusen Kaisha.

Filing Party: Wayne Rohde, Esq.; Cozen O'Connor; 1200 Nineteenth St. NW.; Washington, DC 20006.

Synopsis: The amendment adds the trades between the U.S. West Coast, on the one hand, and Thailand, Taiwan, Indonesia, Malaysia, Brunei, Philippines, Bangladesh, Vietnam, Sri Lanka, Myanmar, Singapore, Australia and New Zealand on the other hand, to the geographic scope of the agreement.

By Order of the Federal Maritime Commission.
Dated: April 1, 2016.
Karen V. Gregory,
Secretary.

[FR Doc. 2016-07890 Filed 4-5-16; 8:45 am]

BILLING CODE 6731-AA-P